DEPARTMENT OF DEFENSE

Office of the Secretary

[Docket ID DoD-2021-OS-0118]

Proposed Collection; Comment Request

AGENCY: The Office of the Assistant to the Secretary of Defense for Public Affairs, Department of Defense (DoD).

ACTION: Information collection notice.

SUMMARY: In compliance with the Paperwork Reduction Act of 1995, the Defense Media Activity (DMA) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 24, 2022.

ADDRESSES: You may submit comments, identified by docket number and title, by any of the following methods:

Federal e-Rulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Media Activity, American Forces Network Operations, 6700 Taylor Avenue, Fort George G. Meade, MD 20755, POC: Mr. Erik Brazones, 443-422-0864.

SUPPLEMENTARY INFORMATION: Title; Associated Form; and OMB Number: American Forces Network Connect and American Forces Network Now; OMB Control Number 0704-0547.

Needs and Uses: The information collection is necessary to obtain and audit the eligibility of DoD employees, DoD contractors, Department of State employees, military personnel (including retirees and active reservists) and their family members outside the United States, or its territories or possessions, to receive restricted American Forces Network programming services (i.e., radio, television, and web streaming services). Data will also be collected to ensure the DMA provides its services in the most efficient and cost-effective manner.

Affected Public: Individuals or households.

Annual Burden Hours: 6,667.

Number of Respondents: 40,000.

Responses per Respondent: 1.

Annual Responses: 40,000.

Average Burden per Response: 10 minutes.

Frequency: Annually.

Dated: November 17, 2021.
Aaron T. Siegel,
Alternate OSD Federal Register Liaison Officer, Department of Defense.

[FR Doc. 2021-25581 Filed 11-22-21; 8:45 am]

BILLING CODE 5001-06-P